DEPARTMENT OF THE TREASURY

Office of the Comptroller of the Currency

Agency Information Collection Activities: Revision of an Approved Information Collection; Submission for OMB Review; Company-Run Annual Stress Test Reporting Template and Documentation for Covered Institutions With Total Consolidated Assets of $250 Billion or More Under the Dodd-Frank Wall Street Reform and Consumer Protection Act

AGENCY: Office of the Comptroller of the Currency (OCC), Treasury.

ACTION: Notice and request for comment.

SUMMARY: The OCC, as part of its continuing effort to reduce paperwork and respondent burden, invites the general public and other federal agencies to take this opportunity to comment on a continuing information collection as required by the Paperwork Reduction Act of 1995 (PRA). In accordance with the requirements of the PRA, the OCC may not conduct or sponsor, and the respondent is not required to respond to, an information collection unless it displays a currently valid Office of Management and Budget (OMB) control number. The OCC proposed revisions to a regulatory reporting requirement for national banks and federal savings associations titled, “Company-Run Annual Stress Test Reporting Template and Documentation for Covered Institutions with Total Consolidated Assets of $250 Billion or More under the Dodd-Frank Wall Street Reform and Consumer Protection Act,” and is now seeking comment on the final version of those revisions. The OCC also has submitted the collection to OMB for review.

DATES: Comments must be received by May 3, 2021.

ADDRESSES: Commenters are encouraged to submit comments by email, if possible. You may submit comments by any of the following methods:

• Email: prainfo@occ.treas.gov.

• Mail: Chief Counsel's Office, Attention: Comment Processing, Office of the Comptroller of the Currency, Attention: 1557-0319, 400 7th Street SW, Suite 3E-218, Washington, DC 20219.

• Hand Delivery/Courier: 400 7th Street SW, Suite 3E-218, Washington, DC 20219.

• Fax: (571) 465-4326.

Instructions: You must include “OCC” as the agency name and “1557-0319” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should be sent within 30 days of publication of this notice to www.reginfo.gov/public/do/PRAMain. Find this particular information collection by selecting “Currently under 30-day Review—Open for Public Comments” or by using the search function.

You may review comments and other related materials that pertain to this information collection ¹ following the close of the 30-day comment period for this notice by the following method:

¹ On January 28, 2021, the OCC published a 60-day notice for this information collection, 86 FR 7456.

• Viewing Comments Electronically: Go to www.reginfo.gov. Click on the “Information Collection Review” tab. Underneath the “Currently under Review” section heading, from the drop-down menu select “Department of Treasury” and then click “submit.” This information collection can be located by searching by OMB control number “1557-0319” or “Company-Run Annual Stress Test Reporting Template and Documentation for Covered Institutions with Total Consolidated Assets of $250 Billion or More under the Dodd-Frank Wall Street Reform and Consumer Protection Act.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 649-5490, Chief Counsel's Office, Office of the Comptroller of the Currency, 400 7th St. SW, Washington, DC 20219. In addition, copies of the templates referenced in this notice can be found on the OCC's website under News and Issuances (http://www.occ.treas.gov/tools-forms/forms/bank-operations/stress-test-reporting.html).

SUPPLEMENTARY INFORMATION: The OCC is requesting comment on the following revision to an approved information collection:

Title: Company-Run Annual Stress Test Reporting Template and Documentation for Covered Institutions with Total Consolidated Assets of $250 Billion or More under the Dodd-Frank Wall Street Reform and Consumer Protection Act.

OMB Control No.: 1557-0319.

Description: Section 165(i)(2) of the Dodd-Frank Wall Street Reform and Consumer Protection Act ² (Dodd-Frank Act) requires certain financial companies, including national banks and federal savings associations, to conduct annual stress tests ³ and requires the primary financial regulatory agency ⁴ of those financial companies to issue regulations implementing the stress test requirements.⁵ Under section 165(i)(2), a covered institution is required to submit to the Board of Governors of the Federal Reserve System (Board) and to its primary financial regulatory agency a report at such time, in such form, and containing such information as the primary financial regulatory agency may require.⁶

² Public Law 111-203, 124 Stat. 1376, July 2010.

³ 12 U.S.C. 5365(i)(2)(A).

⁴ 12 U.S.C. 5301(12).

⁵ 12 U.S.C. 5365(i)(2)(C).

⁶ 12 U.S.C. 5365(i)(2)(B).

On October 9, 2012, the OCC published in the Federal Register a final rule implementing the section 165(i)(2) annual stress test requirement.⁷ This rule describes the reports and information collections required to meet the reporting requirements under section 165(i)(2). These information collections will be given confidential treatment (5 U.S.C. 552(b)(4)) to the extent permitted by law.

⁷ 77 FR 61238 (October 9, 2012) (codified at 12 CFR part 46).

In 2012, the OCC first implemented the reporting templates referenced in the final rule. See 77 FR 49485 (August 16, 2012) and 77 FR 66663 (November 6, 2012). The OCC uses the data collected to assess the reasonableness of the stress test results of covered institutions and to provide forward-looking information to the OCC regarding a covered institution's capital adequacy. The OCC also may use the results of the stress tests to determine whether additional analytical techniques and exercises could be appropriate to identify, measure, and monitor risks at the covered institution. The stress test results are expected to support ongoing improvement in a covered institution's stress testing practices with respect to its internal assessments of capital adequacy and overall capital planning. The OCC proposed new changes to these templates on January 28, 2021.⁸

⁸ 86 FR 7456 (Jan. 28, 2021).

The OCC recognizes that many covered institutions with total consolidated assets of $250 billion or more are required to submit reports using reporting form FR Y-14A.⁹ The OCC also recognizes the Board has proposed and implemented modifications to the FR Y-14A and, to the extent practical, the OCC is keeping its reporting requirements consistent with the Board's FR Y-14A to minimize burden on covered institutions.¹⁰ Therefore, the OCC is revising its reporting requirements to mirror the Board's FR Y-14A for covered institutions with total consolidated assets of $250 billion or more.

⁹ http://www.federalreserve.gov/reportforms.

¹⁰ 85 FR 56607 (Sept. 14, 2020); 85 FR 63222 (Oct. 7, 2020).

The OCC's changes include updates to various schedules to reflect the adoption of the tailoring framework used to determine the applicability of regulatory capital requirements to large U.S. banking organizations.¹¹ Other changes include removing the worksheet for reporting advanced approaches risk-weighted assets and the worksheet for reporting pre-provision net revenue (PPNR) metrics as well as technical changes to various individual data items. The changes to the OCC's reporting templates do not include data items in the FR Y-14A associated with several capital buffers related ratios, such as the Board's stress capital buffer requirement adopted in 2020.¹² The changes remove certain items that are collected from Board-regulated institutions but that will not be required from national banks and federal savings associations. The changes remove the OCC Supplemental Schedule, which collects information not collected by the FR Y-14A. While the proposed changes included the deletion of some instructions related to the counterparty default scenario, the final instructions do not include this change. The retention of these instructions is meant to clarify that the requirement to include a counterparty default scenario is not being changed.

¹¹ 84 FR 59232 (Nov. 1, 2019).

¹² 85 FR 15576 (March 18, 2020).

The OCC did not receive any comments on the proposed revisions.

Type of Review: Revision.

Affected Public: Businesses or other for-profit.

Estimated Number of Respondents: 8.

Estimated Total Annual Burden: 3,716 hours.

The OCC believes that the systems that covered institutions use to prepare the FR Y-14 reporting templates and submit to the Board will also be used to prepare the reporting templates described in this notice. On January 28, 2021, the OCC published a notice for 60 days of comment concerning this collection, 86 FR 7456. No comments were received. Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Theodore J. Dowd,
Deputy Chief Counsel, Office of the Comptroller of the Currency.

[FR Doc. 2021-06821 Filed 4-1-21; 8:45 am]

BILLING CODE P